DEPARTMENT OF ENERGY

Federal Energy Regulatory Commission

[Project No. 14416-000]

FPP Project 111, LLC; Notice of Preliminary Permit Application Accepted for Filing and Soliciting Comments, Motions To Intervene, and Competing Applications

On May 22, 2012, FFP Project 111, LLC., Massachusetts, filed an application for a preliminary permit, pursuant to section 4(f) of the Federal Power Act (FPA), proposing to study the feasibility of the Lorella Pumped Storage Hydroelectric Project to be located near the town of Klamath Falls, Klamath County, Oregon. The project would affect federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following: (1) An upper reservoir with a surface area of 200 acres, formed by a 178-foot-high and a 50-foot-high, rockfill earthwork impoundment, with a total storage capacity of 14,300 acre-feet at a water surface area of 5,523 feet above mean sea level (msl); (2) a lower reservoir with a surface area of 400 acres, formed by an 50-foot-high, rockfill earthwork impoundment, with a total storage capacity of 16,900 acre-feet at a water surface elevation of 4,191 feet msl; (3) 200-foot-wide spillways for both the upper and lower dams; (4) a 1,500-foot-long, 38-foot-wide D-shaped tailrace tunnel; (5) a 1,350-foot-deep, 24-foot-diameter vertical shaft to connect the upper and lower reservoir to the power tunnel; (6) a 3,200-foot-long, 24-foot-diameter power tunnel to connect the shaft with four steel-lined penstocks, each 12 feet in diameter and 355 feet long; (7) a 380-foot by 80-foot underground, reinforced concrete powerhouse containing a 250-megawatt reversible pump-turbine-generators, control systems, and ancillary equipment; and (8) a 4-mile-long, 500-kilovolt transmission line that would connect the project substation to the existing Pacific Intertie lines at the Captain Jack substation. The annual energy output would be approximately 1,600 gigawatt-hours

Applicant Contact: Daniel R. Irvin, FFP Project 111, LLC., 239 Causeway Street, Suite 300, Boston, MA 02114; phone (978) 252-7631.

FERC Contact: Mary Greene; phone: (202) 502-8865.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14416) in the docket number field to access the document. For assistance, contact FERC Online Support.

Dated: September 24, 2012.
Kimberly D. Bose,
Secretary.

[FR Doc. 2012-23937 Filed 9-27-12; 8:45 am]

BILLING CODE 6717-01-P